DEPARTMENT OF TRANSPORTATION

Federal Highway Administration

Notice of Final Federal Agency Actions on Proposed Highway Project in California

AGENCY: Federal Highway Administration (FHWA), DOT.

ACTION: Notice of Limitation on Claims for Judicial Review of Actions by the FHWA and Other Federal Agencies.

SUMMARY: This notice announces actions taken by the California Department of Transportation (Caltrans) pursuant to its assigned responsibilities under 23 U.S.C. 327 that are final within the meaning of 23 U.S.C. 139(l)(1). These actions relate to a proposed highway project, the Ventura/Santa Barbara U.S.101 HOV Project between Mobil Pier Undercrossing in Ventura County and Casitas Pass Road in Santa Barbara County, State of California. Those actions grant licenses, permits, and approvals for the project.

DATES: By this notice, the FHWA, on behalf of Caltrans is advising the public of final agency actions subject to 23 U.S.C. 139(l)(1). A claim seeking judicial review of the Federal agency actions on the highway project will be barred unless the claim is filed on or before August 3, 2009. If the Federal law that authorizes judicial review of a claim provides a time period of less than 180 days for filing such claim, then that shorter time period still applies.

FOR FURTHER INFORMATION CONTACT: Carlos Montez, Caltrans District 7, Division of Environmental Planning, 100 S. Main Street, Los Angeles, CA 90012, during normal business hours from 9 a.m. to 5 p.m. telephone (213) 897-9116, e-mail Carlos_Montez@dot.ca.gov.

SUPPLEMENTARY INFORMATION: Notice is hereby given that Caltrans, pursuant to its assigned responsibilities under U.S.C. 327, and certain other Federal agencies have taken final agency actions subject to 23 U.S.C. 139(l)(1) by approving the Ventura/Santa Barbara U.S.101 HOV Project in the State of California. When completed, the project will widen the U.S. 101 from four lanes to six lanes three northbound and three southbound by constructing an HOV lane in the existing median between Mobil Pier Undercrossing in Ventura County and Casitas Pass Road in Santa Barbara County. The purpose of the project is to relieve congestion, improve operations, safety and pedestrian and bicycle access. The project length is 6 miles. The actions by the Federal agencies, and the laws under which such actions were taken, are described in the Initial Study with Mitigated Negative Declaration/Environmental Assessment for the project, approved on December 12, 2008 and the Finding of No Significant Impact (FONSI) issued on December 12, 2008, and in other documents in the project records. The Initial Study with Mitigated Negative Declaration/Environmental Assessment, FONSI, and other project records are available by contacting the California Department of Transportation at the address provided above. The FONSI can be viewed and downloaded from the project Web site at http://www.dot.ca.gov/dist07/resources/envdocs/.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Land: Section 4(f) of the Department of Transportation Act of 1966 [49 U.S.C. 303].

4. Wildlife: Endangered Species Act [16 U.S.C. 1531-1544 and Section 1536]; Fish and Wildlife Coordination Act [16 U.S.C. 661-667(d)]; Migratory Bird Treaty Act [16 U.S.C. 703-712].

5. Historic and Cultural Resources: Section 106 of the National Historic Preservation Act of 1966, as amended [16 U.S.C. 470(f) et seq.].

6. Social and Economic: Civil Rights Act of 1964 [42 U.S.C. 2000(d)-2000(d)(1)]; Farmland Protection Policy Act (FPPA) [7 U.S.C. 4201-4209].

7. Wetlands and Water Resources: Clean Water Act (Section 404, Section 401, Section 319) [33 U.S.C. 1251-1377]; Safe Drinking Water Act (SDWA) [42 U.S.C. 300(f)-300(j)(6)].

8. Executive Orders: E.O. 11990 Protection of Wetlands; E.O. 11988 Floodplain Management; E.O. 12898 Federal Actions to Address Environmental Justice in Minority Populations and Low Income Populations; E.O. 13112 Invasive Species.

(Catalog of Federal Domestic Assistance Program Number 20.205, Highway Planning and Construction. The regulations implementing Executive Order 12372 regarding intergovernmental consultation on Federal programs and activities apply to this program.)

Authority: 23 U.S.C. 139(1)(1).

Issued on: January 29, 2009.
Cindy Vigue,
Director, State Programs.

[FR Doc. E9-2314 Filed 2-3-09; 8:45 am]

BILLING CODE 4910-RY-P